DEPARTMENT OF THE INTERIOR

Fish and Wildlife Service

[FWS-R4-ES-2008-N0291; 40120-1112-0000-F5]

Receipt of Applications for Endangered Species Permits

AGENCY: Fish and Wildlife Service, Interior.

ACTION: Notice.

SUMMARY: The public is invited to comment on the following applications to conduct certain activities with threatened and endangered species.

DATES: We must receive written data or comments on the applications at the address given below, by December 1, 2008.

ADDRESSES: Documents and other information submitted with the applications are available for review, subject to the requirements of the Privacy Act and Freedom of Information Act, by any party who submits a written request for a copy of such documents to the following office within 30 days of the date of publication of this notice: Fish and Wildlife Service, 1875 Century Boulevard, Suite 200, Atlanta, Georgia 30345 (Attn: David Dell, HCP Coordinator).

FOR FURTHER INFORMATION CONTACT: David Dell, telephone 404/679-7313; facsimile 404/679-7081.

SUPPLEMENTARY INFORMATION: The public is invited to comment on the following applications for permits to conduct certain activities with endangered and threatened species pursuant to section 10(a)(1)(A) of the Endangered Species Act of 1973, as amended (16 U.S.C. 1531 et seq.). This notice is provided under section 10(c) of the Act. If you wish to comment, you may submit comments by any one of the following methods. You may mail comments to the Fish and Wildlife Service's Regional Office (see ADDRESSES section) or via electronic mail (e-mail) to david_dell@fws.gov. Please include your name and return address in your e-mail message. If you do not receive a confirmation from the Fish and Wildlife Service that we have received your e-mail message, contact us directly at the telephone number listed above (see FOR FURTHER INFORMATION CONTACT section). Finally, you may hand deliver comments to the Fish and Wildlife Service office listed above (see ADDRESSES section).

Before including your address, telephone number, e-mail address, or other personal identifying information in your comments, you should be aware that your entire comment—including your personal identifying information—may be made publicly available at any time. While you can ask us in your comments to withhold your personal identifying information from public review, we cannot guarantee that we will be able to do so. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Applicant: Paul Yokley, Florence, Alabama, TE027307

The applicant requests renewal of existing authorization to capture, identify, and release 67 species of mussel, fish, snail, and turtle for presence/absence surveys throughout the species ranges in Alabama, Tennessee, Mississippi, and Georgia.

Applicant: CCR Environmental, Atlanta, Georgia, TE059008

The applicant requests renewal of existing authorization to capture, identify, and release 110 species of mussel, fish, snail, crayfish, reptile and amphibian; and to harass five bird species for presence/absence surveys throughout the species ranges in Alabama, Tennessee, Mississippi, Georgia, Arkansas, Louisiana, Kentucky, North Carolina, South Carolina, and Florida.

Applicant: East Kentucky Power Cooperative, Winchester, Kentucky, TE816862

The applicant requests renewal of existing authorization to capture, identify, and release Virginia big-eared bats (Plecotus townsendii virginianus), Indiana bats (Myotis sodalis), and gray bats (Myotis grisescen), as well as nineteen species of mussels, for presence/absence surveys throughout Kentucky. Indiana bat surveys are also conducted throughout the species range in the southeast and midwestern United States.

Applicant: Geosyntac Consultants, Inc., Kennesaw, Georgia, TE095972

The applicant requests renewal of existing authorization to capture, identify, and release Conasauga logperch (Percina jenkinsi), blue shiner (Cyprinella caerulea), amber darter (Percina antesella), goldline darter (Percina aurolineata), Etowah darter (Etheostoma etowahae), snail darter (Percina tanasi), and Cherokee darter (Etheostoma scotti) for presence/absence surveys throughout the species ranges in Georgia. The applicant requests amendment of this authorization to add eleven species of mussels and to add flatwoods salamander (Ambystoma cingulatum) and eastern indigo snake (Drymarchon corais couperi) for presence/absence surveys throughout the species ranges in Georgia.

Applicant: The University of Florida, Fort Lauderdale Research and Education Center, Davie, Florida, TE077258

The applicant requests renewal of existing authorization to capture, tag, salvage, collect blood and tissue, and release American crocodiles (Crocodylus acutus) for research and monitoring populations throughout the species range in Florida.

Applicant: Mark Merchant, McNeese State University, Lake Charles, Louisiana, TE196632

The applicant requests authorization to capture, collect blood and tissue, and release American crocodiles for research purposes throughout the species range in Florida.

Applicant: Register-Nelson, Inc., McDonaugh, Georgia, TE114088

The applicant requests renewal of existing authorization to capture, identify, and release blue shiner (Cyprinella caerulea), Etowah darter (Etheostoma etowahae), Cherokee darter (Etheostoma scotti), amber darter (Percina antesella), goldline darter (Percina aurolineata), snail darter (Percina tanasi), Conasauga logperch (Percina jenkinsi), and the eastern indigo snake (Drymarchon corais couperi) for presence/absence surveys throughout the species ranges in Georgia.

Applicant: Hopi Hoekstra, Harvard University, Cambridge, Massachussetts, TE095962

The applicant requests renewal of existing authorization to capture, tag, collect tissue samples, and release, Perdido Key (Peromyscus polionotus trissyllepsis), Choctawhatchee (P.p. polionotus), and St. Andrews (P.p. peninsularis) beach mice while conducting research activities throughout Florida.

Applicant: Christopher Skelton, Athens, Georgia, TE121073

The applicant requests renewal of existing authorization to capture, identify, and release seven species of fish and seventeen species of mussel for presence/absence surveys throughout the species ranges in Georgia.

Applicant: Tampa's Lowry Park Zoo, Tampa, Florida, TE763742

The applicant requests renewal of existing authorization to receive and maintain in captivity Florida panthers (Felis concolor coryi) in cooperation with the State of Florida and the Service for species recovery activities.

Applicant: Ronald Rohrbaugh, Cornell Lab of Ornithology, Ithaca, New York, TE108852

The applicant requests renewal of existing authorization to harass ivory-billed woodpeckers (Campephilus principalis) for survey and research purposes throughout the species potential range in the southeastern and Midwestern United States.

Applicant: James B. Layzer, Tennessee Cooperative Fishery Research Unit, Cookeville, Tennessee, TE078207

The applicant requests renewal of existing authorization to capture, retain for captive propagation, and release seventeen species of mussels while conducting research and recovery-related activities throughout the species ranges in Tennessee, Alabama, North Carolina, and Kentucky.

Applicant: Sunlight Gardens, Anderson, Tennessee, TE125626

The applicant requests renewal of existing authorization to sell in interstate commerce artificially propagated specimens of Tennessee purple coneflower (Echinaceae tennesseensis) and Cumberland rosemary (Conradina verticillata).

Dated: October 16, 2008.
Cynthia K. Dohner,
Acting Regional Director.

[FR Doc. E8-25901 Filed 10-29-08; 8:45 am]

BILLING CODE 4310-55-P